DEPARTMENT OF COMMERCE

International Trade Administration

A-570-831

Fresh Garlic from the People's Republic of China: Extension of Time Limit for the Preliminary Results of the New Shipper Reviews

AGENCY: Import Administration, International Trade Administration, Department of Commerce.

EFFECTIVE DATE: June 23, 2008.

FOR FURTHER INFORMATION CONTACT: Scott Lindsay, AD/CVD Operations, Office 6, Import Administration, International Trade Administration, U.S. Department of Commerce, 14th Street and Constitution Avenue, NW, Washington, DC 20230; telephone: (202) 482-0780.

SUPPLEMENTARY INFORMATION:

Background

On January 2, 2008, the Department published a notice of initiation of new shipper reviews of fresh garlic from the PRC covering Anqiu Haoshun Trade Co., Ltd., Ningjin Ruifeng Foodstuff Co., Ltd., and Zhengzhou Yuanli Trading Co., Ltd. for the period November 1, 2006, through October 31, 2007. See Fresh Garlic from the People(s Republic of China: Initiation of New Shipper Reviews, 73 FR 161 (January 2, 2008). The preliminary results of these new shipper reviews are currently due no later than June 18, 2008.

Statutory Time Limits

Section 751(a)(2)(B)(iv) of the Tariff Act of 1930, as amended (the “Act”), provides that the Department will issue the preliminary results of a new shipper review of an antidumping duty order within 180 days after the day on which the review was initiated. See also 19 CFR 351.214(i)(1). The Act further provides that the Department may extend that 180-day period to 300 days if it determines that the case is extraordinarily complicated. See 19 CFR 351.214 (i)(2).

Extension of Time Limit of Preliminary Results

The Department determines that these new shipper reviews involve extraordinarily complicated methodological issues such as potential affiliation issues, the examination of importer information, and the evaluation of the bona fide nature of each company’s sales. Therefore, in accordance with section 751(a)(2)(B)(iv) of the Act and 19 CFR 351.214(i)(2), the Department is extending the time limit for these preliminary results by 120 days, until no later than October 16, 2008. The final results continue to be due 90 days after the date of the issuance of the preliminary results, unless extended.

We are issuing and publishing this notice in accordance with sections 751(a)(2)(B)(iv) and 777(i) of the Act.

Dated: June 13, 2008.
Stephen J. Claeys,
Deputy Assistant Secretary for Import Administration.

[FR Doc. E8-14111 Filed 6-20-04; 8:45 am]

BILLING CODE 3510-DS-S